DEPARTMENT OF HOMELAND SECURITY

U.S. Customs and Border Protection

[1651-0075]

Agency Information Collection Activities: Drawback Process Regulations

AGENCY: U.S. Customs and Border Protection (CBP), Department of Homeland Security.

ACTION: 30-Day notice and request for comments; extension of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and will be accepted no later than April 30, 2018 to be assured of consideration.

ADDRESSES: Interested persons are invited to submit written comments on this proposed information collection to the Office of Information and Regulatory Affairs, Office of Management and Budget. Comments should be addressed to the OMB Desk Officer for Customs and Border Protection, Department of Homeland Security, and sent via electronic mail to dhsdeskofficer@omb.eop.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number (202) 325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (83 FR 2813) on January 19, 2018, allowing for a 60-day comment period. This notice allows for an additional 30 days for public comments. This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Drawback Process Regulations.

OMB Number: 1651-0075.

Form Number: CBP Forms 7551, 7552 and 7553.

Current Actions: This submission is being made to extend the expiration date of this information collection with a decrease to the burden hours due to updated agency estimates. There is no change CBP Forms 7551, 7552, 7553, or to the information being collected.

Type of Review: Extension (without change).

Abstract: The collections of information related to the drawback process are required to implement the provisions of 19 CFR part 191, and certain provisions of part 181 (regarding NAFTA drawback claims), which provide for refunds of duties, as well as taxes and fees in certain situations, imposed on imported merchandise where there is a subsequent related exportation or destruction. The claims referred to in this notice are limited to drawback claims filed in compliance with the regulations in parts 181 and 191 and under 19 U.S.C. 1313, as it was in effect prior to the amendments made by the Trade Facilitation and Trade Enforcement Act of 2015 (TFTEA) (Pub. L. 114-125, 130 stat. 122, February 24, 2016). If the requirements set forth in Parts 181 and 191 are met, claimants may file for a refund using CBP Form 7551, Drawback Entry. CBP Form 7552, Delivery Certificate for Purposes of Drawback, is used to record transfers of merchandise and is also used each time a change to the merchandise occurs as a result of a manufacturing operation. CBP Form 7553, Notice of Intent to Export, Destroy or Return Merchandise for Purposes of Drawback, is used to notify CBP if an exportation, destruction, or return of the imported merchandise will take place. The information collected on these forms is authorized by 19 U.S.C. 1313(l). The drawback forms are accessible at http://www.cbp.gov/newsroom/publications/forms.

Affected Public: Businesses.

CBP Form 7551, Drawback Entry

Estimated Number of Respondents: 2,516.

Estimated Number of Responses per Respondent: 20.205.

Estimated Number of Total Annual Responses: 50.836.

Estimated Time per Response: 35 minutes.

Estimated Total Annual Burden Hours: 29,652.

CBP Form 7552, Delivery Certificate for Drawback

Estimated Number of Respondents: 2,000.

Estimated Number of Responses per Respondent: 20.

Estimated Number of Total Annual Responses: 40,000.

Estimated Time per Response: 33 minutes.

Estimated Total Annual Burden Hours: 22,000.

CBP Form 7553, Notice of Intent To Export, Destroy or Return Merchandise for Purposes of Drawback

Estimated Number of Respondents: 150.

Estimated Number of Responses per Respondent: 20.

Estimated Number of Total Annual Responses: 3,000.

Estimated Time per Response: 33 minutes.

Estimated Total Annual Burden Hours: 1,650.

Dated: March 27, 2018
Seth Renkema,
Branch Chief, Economic Impact Analysis Branch, U.S. Customs and Border Protection.

[FR Doc. 2018-06480 Filed 3-29-18; 8:45 am]

BILLING CODE 9111-14-P